SECURITIES AND EXCHANGE COMMISSION

[File No. 500-1]

China Agro-Technology Holdings Ltd.; Order of Suspension of Trading

February 2, 2012.

It appears to the Securities and Exchange Commission that there is a lack of current and accurate information concerning the securities of China Agro-Technology Holdings Ltd. because it has not filed any periodic reports since the period ended December 31, 2007.

The Commission is of the opinion that the public interest and the protection of investors require a suspension of trading in the securities of China Agro-Technology Holdings Ltd. Therefore, it is ordered, pursuant to Section 12(k) of the Securities Exchange Act of 1934, that trading in the securities of China Agro-Technology Holdings Ltd. is suspended for the period from 9:30 a.m. EST on February 2, 2012, through 11:59 p.m. EST on February 15, 2012.

By the Commission.
Elizabeth M. Murphy,
Secretary.

[FR Doc. 2012-2691 Filed 2-2-12; 11:15 am]

BILLING CODE 8011-01-P